DEPARTMENT OF VETERANS AFFAIRS

National Research Advisory Council; Notice of Meeting

The Department of Veterans Affairs (VA) gives notice under the Federal Advisory Committee Act, 5 U.S.C. App. 2, that the National Research Advisory Council will hold a meeting on Wednesday, May 4, 2022, by Webex. The teleconference number is 1-404-397-1596, conference ID 199 811 6717 or the meeting link is https://veteransaffairs.webex.com/veteransaffairs/j.php?MTID=m000894cb2081a6845cd69505d4ba34e5. The meeting will convene at 11:00 a.m. and end at 2:00 p.m. Eastern daylight time. This meeting is open to the public.

The purpose of the National Research Advisory Council is to advise the Secretary on research conducted by the Veterans Health Administration, including policies and programs targeting the high priority of Veterans' health care needs.

On May 4, 2022, the agenda will include introduction of new NRAC members, discussion of calendar year 2022 goals; follow up discussion of diversity, equity, and inclusion activities in response to the NRAC recommendations; and discussion of subcommittee activities. No time will be allocated at this meeting for receiving oral presentations from the public. Members of the public wanting to attend, have questions or presentations to present may contact Rashelle Robinson, Designated Federal Officer, Office of Research and Development (14RD), Department of Veterans Affairs, 810 Vermont Avenue NW, Washington, DC 20420, at 202-443-5768, or Rashelle.robinson@va.gov no later than close of business on April 29, 2022. All questions and presentations will be presented during the public comment section of the meeting. Any member of the public seeking additional information should contact Rashelle Robinson at the above phone number or email address noted above.

Dated: February 16, 2022.
LaTonya L. Small,
Federal Advisory Committee Management Officer.

[FR Doc. 2022-03683 Filed 2-18-22; 8:45 am]

BILLING CODE P